DEPARTMENT OF HEALTH AND HUMAN SERVICES

Support, Training and Capacity Building for Infectious Disease Surveillance Networks in Affected Countries in Southeast Asia, Africa and Other Regions of the World

AGENCY: Office of Public Health Emergency Preparedness, Office of the Secretary, HHS.

ACTION: Notice; Correction.

SUMMARY: The Office of Public Health Emergency Preparedness, HHS, published a notice in the Federal Register on Wednesday, March 8, 2006 announcing a forthcoming single source cooperative agreement award to the Pasteur Foundation, a not-for-profit affiliate of the Institut Pasteur to enhance the surveillance, epidemiological investigation and laboratory diagnostic capabilities in countries in S.E. Asia, Africa and other regions of the world. That notice contained an error by having omitted certain amounts of funding for enhancement of laboratory capacity at Institut Pasteur-Cambodia (IPC) in the second and third year of the project, for a virologist for IPC for three years, and for a senior project manager to coordinate the activities across the different countries that are involved in this project. This notice corrects the omission.

FOR FURTHER INFORMATION CONTACT: Lily O. Engstrom, 202-205-2882.

Correction

In the Federal Register of March 8, 2006, in FR Vol. 71, No. 45, on page 11665, correct the table to add the following omissions:

$440,000 for enhancement of laboratory capacity at IPC for Year 2 and Year 3 ($220,000 per year); $210,000 for a virologist for IPC for three years ($70,000 per year); and $450,000 for a project manager for three years ($150,000 per year).

The cooperative agreement resulting from this Funding Opportunity will be fully funded this fiscal year.

Dated: April 26, 2006.
Stewart Simonson,
Assistant Secretary for Public Health Emergency Preparedness, Department of Health and Human Services.

[FR Doc. E6-6595 Filed 5-1-06; 8:45 am]

BILLING CODE 4150-37-P